ENVIRONMENTAL PROTECTION AGENCY

[FRL OP-OFA-096]

Environmental Impact Statements; Notice of Availability

Responsible Agency: Office of Federal Activities, General Information 202-564-5632 or https://www.epa.gov/nepa.

Weekly receipt of Environmental Impact Statements (EIS)

Filed November 3, 2023 10 a.m. EST Through November 13, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230160, Draft, USFWS, OR, Draft Environmental Impact Statement for the Barred Owl Management Strategy, Comment Period Ends: 01/16/2024, Contact: Robin Bown 503-231-6923.

EIS No. 20230161, Final, NMFS, WA, The Makah Tribe Request to Hunt Gray Whales, Review Period Ends: 12/18/2023, Contact: Grace Ferrara 206-526-6172.

Amended Notice

EIS No. 20230153, Final, USDA, WA, ADOPTION—Odessa Subarea Special Study Columbia Basin Project To Replace Groundwater Currently Used for Irrigation Grant Adams Walla Walla and Franklin Counties WA, Review Period Ends: 12/04/2023, Contact: Jules Riley 539-323-2941.

Revision to FR Notice Published 11/3/2023; Correction to Review Period Due Date from December 11, 2023 to December 4, 2023.

Dated: November 13, 2023.
Julie Smith,
Acting Director, NEPA Compliance Division, Office of Federal Activities.

[FR Doc. 2023-25454 Filed 11-16-23; 8:45 am]

BILLING CODE 6560-50-P